DEPARTMENT OF ENERGY

Federal Energy Regulatory Commission

[Project No. 2069-006]

Arizona Public Service Company; Notice of Petition for Declaratory Order

September 4, 2001.

On August 1, 2001, Arizona Public Service Company (APS) filed a petition for a declaratory order regarding the Offer of Settlement and Settlement Agreement (settlement) filed September 15, 2000, and currently pending before the Commission in the relicensing proceeding for the Childs Irving Project No. 2069. The settlement, which was signed by APS, the intervenors in the relicensing proceeding, and several non-intervenors, provides, among other things, that APS will cease generation at the project no later than December 31, 2004, will surrender the project license and decommission the project site, and will complete project decommissioning no later than December 31, 2009. The settlement also provides that, in the event of a Commission order that alters any of its essential terms, the settlement shall become null and void, and the relicensing proceeding shall be restored.

APS requests that the Commission issue a declaratory order determining whether the process contemplated by the settlement is acceptable. Specifically, APS seeks confirmation that the Commission will allow the parties to the settlement to return to the pre-settlement status quo if the Commission modifies the settlement or if the objectives of the settlement, including license surrender and project decommissioning, are not achieved. By this, APS means, in particular, that the Commission will retain or reinstate its relicense application and process it without providing a new opportunity for the filing of competitive license applications. APS also seeks confirmation that, if the Commission accepts the surrender of the license, it will allow the surrender to be effective at a future date so that generation may continue until December 31, 2004. In this regard, APS requests the Commission to confirm that it would exercise its authority to issue annual licenses during the pendency of the surrender application and until the deadline for the cessation of generation. The petition does not request the Commission to take a position on the merits of the settlement.

Because the relief sought by the petition could have implications for other proceedings in which similar issues occur, the Commission encourages comments from any interested entities, not just those involved in this particular proceeding. The Commission would particularly welcome comments that address whether it should be willing to retain or reinstate relicense applications that are conditional upon the occurrence of other events, especially when those events are contemplated by settlements submitted during relicensing proceedings. The Commission would also welcome comments that address whether, and under what conditions, it should provide additional opportunities for entities to seek licenses to operate a project if an incumbent licensee that has filed an application for a new license subsequently seeks, conditionally or unconditionally, to surrender its existing license before the new license has been issued. Also, the Commission would welcome comments that address the extent to which it should allow the effectiveness of a license surrender to be postponed, and whether it should be willing to issue annual licenses for an extended period of time until project generation ceases or until the project is fully decommissioned.

Any person desiring to be heard or to protest the petition should file comments, a protest, or a motion to intervene in accordance with the requirements of the Commission's Rules of Practice and Procedure, 18 CFR 385.210, 385.211 and 385.214. In determining the appropriate action to take, the Commission will consider all protests and other comments, but only those who file a motion to intervene may become parties to the proceeding. Comments, protests, or motions to intervene must be filed within 30 days of publication of this notice in the Federal Register and must bear in all capital letters the title “COMMENTS,” “PROTEST,” or “MOTION TO INTERVENE,” as applicable, and Project No. 2069-006.

Comments, protests, and interventions may be filed electronically via the internet in lieu of paper. See, 18 CFR 385.2001(a)(1)(iii) and the instructions on the Commission's web site under the “e-filing” link.

Send the filings (original and 8 copies) to: The Secretary, Federal Energy Regulatory Commission, 888 First Street, NE., Washington, DC 20426. Copies of the petition for declaratory order are on file with the Commission and are available for public inspection in Room 2A and may also be viewed on the web at http://www.ferc.gov/online/rims.htm (please call (202) 208-2222 for assistance).

Linwood A. Watson, Jr.,
Acting Secretary.

[FR Doc. 01-22586 Filed 9-7-01; 8:45 am]

BILLING CODE 6717-01-P